DEPARTMENT OF COMMERCE

International Trade Administration

Renewable Energy and Energy Efficiency Advisory Committee

AGENCY: U.S. Department of Commerce, International Trade Administration.

ACTION: Notice of an Open Meeting.

SUMMARY: The Renewable Energy and Energy Efficiency Advisory Committee (RE&EEAC) will meet via conference call to deliberate proposed recommendations by the Trade Policy, Trade Promotion and Domestic Policy Subcommittees to the Secretary of Commerce regarding the development and administration of programs and policies to expand the competitiveness of the U.S. renewable energy and energy efficiency industries, including specific challenges associated with exporting.

DATES: August 19, 2011, from 1 p.m. to 4 p.m. Eastern Daylight Time (E.D.T.)

ADDRESSES: The meeting will take place via conference call.

FOR FURTHER INFORMATION CONTACT: Brian O'Hanlon, Office of Energy and Environmental Technologies Industries (OEEI), International Trade Administration, U.S. Department of Commerce at (202) 482-3492; e-mail: brian.ohanlon@trade.gov. This meeting is physically accessible to people with disabilities. Requests for auxiliary aids should be directed to OEEI at (202) 482-3492.

SUPPLEMENTARY INFORMATION: Background: The Secretary of Commerce established the RE&EEAC pursuant to his discretionary authority and in accordance with the Federal Advisory Committee Act (5 U.S.C. App.) on July 14, 2010. The RE&EEAC provides the Secretary of Commerce with consensus advice from the private sector on the development and administration of programs and policies to expand the international competitiveness of the U.S. renewable energy and energy efficiency industries. The RE&EEAC held its first meeting on December 7, 2010 and subsequent meetings on March 1, 2011 and May 31-June 1, 2011.

The meeting is open to the public. Members of the public wishing to participate in the conference call meeting must notify Brian O'Hanlon at the contact information above by 5 p.m. E.D.T. on Monday, August 15, in order to pre-register. Registered members of the public will receive call-in instructions. Please specify any request for reasonable accommodation by August 12, 2011. Last minute requests will be accepted, but may be impossible to fill. A limited amount of time, from 3:30 p.m.-4 p.m., will be available for pertinent brief oral comments from members of the public participating in the meeting.

Any member of the public may submit pertinent written comments concerning the RE&EEAC's affairs at any time before or after the meeting. Comments may be submitted to brian.ohanlon@trade.gov or to the Renewable Energy and Energy Efficiency Advisory Committee, Office of Energy and Environmental Technologies Industries (OEEI), International Trade Administration, Room 4830, 1401 Constitution Avenue, NW., Washington, DC 20230. To be considered during the meeting, comments must be received no later than 5 p.m. E.D.T. on August 15, 2011, to ensure transmission to the Committee prior to the meeting. Comments received after that date will be distributed to the members but may not be considered at the meeting.

Copies of RE&EEAC meeting minutes will be available within 30 days of the meeting.

Edward A. O'Malley,
Director, Office of Energy and Environmental Industries.

[FR Doc. 2011-18577 Filed 7-25-11; 8:45 am]

BILLING CODE 3510-DR-P